FEDERAL COMMUNICATIONS COMMISSION

47 CFR Part 73

[DA 01-738; MM Docket No. 99-151; RM-9559; RM-9932]

Radio Broadcasting Services; Rangely, Silverton and Ridgway, CO

AGENCY: Federal Communications Commission (FCC).

ACTION: Final rule; petition for reconsideration.

SUMMARY: This document denies a Petition for Reconsideration filed on behalf of Idaho Broadcasting Consortium, Inc. (“IBC”) directed to the Report and Order in this proceeding allotting Channel 279C1 to Rangely, Colorado, without a site restriction. The Report and Order also granted IBC's counterproposal to substitute Channel 279C1 for Channel 279C2 at Silverton, Colorado, reallotted Channel 279C1 to Ridgway, Colorado, and modified the authorization of IBC for Station KBNG(FM), at an alternate transmitter site, rather than IBC's specified site. Channel 238A was also allotted to Silverton as a replacement channel for Channel 279C1. IBC objects to the use of the alternate site specified at Ridgway. See 65 FR 55925, September 15, 2000. The petition for reconsideration is denied as it does not meet the limited provisions set forth in the Commission's Rules under which a rule making action will be reconsidered. With this action, this docketed proceeding is terminated.

FOR FURTHER INFORMATION CONTACT: Nancy Joyner, Mass Media Bureau, (202) 418-2180.

SUPPLEMENTARY INFORMATION: This is a synopsis of the Commission's Memorandum Opinion and Order, in MM Docket No. 99-151, adopted March 14, 2001, and released March 23, 2001. The full text of this Commission decision is available for inspection and copying during normal business hours in the FCC Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 01-8243 Filed 4-3-01; 8:45 am]

BILLING CODE 6712-01-P